DEPARTMENT OF JUSTICE

Notice of Lodging of Proposed Consent Decree Under the Clean Water Act

On April 26, 2019, the Department of Justice lodged a proposed Consent Decree with the United States District Court for the District of Montana in the lawsuit entitled United States v. ExxonMobil Pipeline Company, Civil Action No. 1:19-cv-00048-SPW-TJC.

The United States filed this lawsuit against ExxonMobil Pipeline Company (“ExxonMobil”) seeking civil penalties pursuant to Section 311(b)(7)(A) and (D) of the Clean Water Act (“CWA”), 33 U.S.C. 1321(b)(7)(A) and (D), and injunctive relief pursuant to Section 309(b) of the CWA, 33 U.S.C. 1319(b), as a result of the July 1, 2011 discharge of over 1,500 barrels of crude oil from the company's Silvertip Pipeline into the Yellowstone River near Laurel, Montana. The proposed Consent Decree requires ExxonMobil Pipeline Company to pay a civil penalty of $1,050,000 to resolve the claims. The settlement proceeds will be deposited in the Oil Spill Liability Trust Fund. The proposed Consent Decree also requires ExxonMobil to take action at certain Silvertip Pipeline water crossings.

The publication of this notice opens a period for public comment on the consent decree. Comments should be addressed to the Assistant Attorney General, Environment and Natural Resources Division, and should refer to United States v. ExxonMobil Pipeline Company, D.J. Ref. No. 90-5-1-1-10332/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $9.50 for the consent decree and appendices (25 cents per page reproduction cost) or $7.50 for the consent decree without appendix, payable to the United States Treasury.

Jeffrey Sands,
Assistant Section Chief, Environmental Enforcement Section, Environment and Natural Resources Division.

[FR Doc. 2019-08940 Filed 5-1-19; 8:45 am]

BILLING CODE 4410-15-P